DEPARTMENT OF THE INTERIOR

National Park Service

[NPS-WASO-NAGPRA-NPS0031086; PPWOCRADN0-PCU00RP14.R50000]

Notice of Intent To Repatriate Cultural Items: Gilcrease Museum, Tulsa, OK

AGENCY: National Park Service, Interior.

ACTION: Notice.

SUMMARY: The Gilcrease Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Gilcrease Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Gilcrease Museum at the address in this notice by December 7, 2020.

ADDRESSES: Laura Bryant, Gilcrease Museum, 1400 North Gilcrease Museum Road, Tulsa, OK 74127, telephone (918) 596-2747, email laura-bryant@utulsa.edu.

SUPPLEMENTARY INFORMATION: Notice is here given in accordance with the Native American Graves Protection and Repatriation Act (NAGPRA), 25 U.S.C. 3005, of the intent to repatriate cultural items under the control of the Gilcrease Museum, Tulsa, OK, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Likely in the late 19th or early 20th century, two cultural items were removed from an unknown location. Thomas Gilcrease likely acquired these items as part of a larger collection in the mid-1900s, though the exact details are unknown. Thomas Gilcrease transferred his collection to the City of Tulsa in 1955 and 1964. The two unassociated funerary objects are pipe bags (accession numbers 84.507 and 84.521).

Both pipe bags were identified as Cheyenne in the Gilcrease Museum's records, and that affiliation was confirmed during consultation with the Cheyenne and Arapaho Tribes, Oklahoma. Both pipe bags are covered in dirt and show signs of having been buried. Pipe bags are known to have been buried with individuals.

In the late 19th or early 20th century, one cultural item was removed from an unknown location and acquired by Joseph H. Sharp, an American artist. In the mid-20th century, the Thomas Gilcrease Foundation purchased part of Sharp's collection. Thomas Gilcrease transferred his collection to the City of Tulsa in 1955 and 1964. The one unassociated funerary object is a pipe bag (accession number 84.524).

The pipe bag was identified as Cheyenne in the Gilcrease Museum's records, and that affiliation was confirmed during consultation with the Cheyenne and Arapaho Tribes, Oklahoma. The pipe bag is covered in dirt and shows signs of having been buried. Pipe bags are known to have been buried with individuals.

In the late 19th or early 20th century, two cultural items were removed from an unknown location. Likely in the early 20th century, Emil Lenders, a European artist who immigrated to the United States in the 1890s and traveled throughout the Midwest, acquired these two items. The Thomas Gilcrease Foundation purchased Lenders' collection on June 7, 1950. Thomas Gilcrease transferred his collection to the City of Tulsa in 1955 and 1964. The unassociated funerary objects are two pairs of moccasins (accession numbers 84.425a-b and 84.426a-b).

The moccasins were identified as Cheyenne in Gilcrease Museum's records, and that affiliation was confirmed during consultation with the Cheyenne and Arapaho Tribes, Oklahoma. Both pairs of moccasins are covered in dirt and show signs of having been buried. Moccasins are regularly buried with individuals.

Determinations Made by the Gilcrease Museum

Officials of the Gilcrease Museum have determined that:

• Pursuant to 25 U.S.C. 3001(3)(B), the five cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Cheyenne and Arapaho Tribes, Oklahoma (previously listed as Cheyenne-Arapaho Tribes of Oklahoma).

Additional Requestors and Disposition

Lineal descendants or representatives of any Indian Tribe or Native Hawaiian organization not identified in this notice that wish to claim these cultural items should submit a written request with information in support of the claim to Laura Bryant, Gilcrease Museum, 1400 North Gilcrease Museum Road, Tulsa, OK 74127, telephone (918) 596-2747, email laura-bryant@utulsa.edu, by December 7, 2020. After that date, if no additional claimants have come forward, transfer of control of the unassociated funerary objects to the Cheyenne and Arapaho Tribes, Oklahoma (previously listed as Cheyenne-Arapaho Tribes of Oklahoma) may proceed.

The Gilcrease Museum is responsible for notifying the Cheyenne and Arapaho Tribes, Oklahoma (previously listed as Cheyenne-Arapaho Tribes of Oklahoma) that this notice has been published.

Dated: October 22, 2020.
Melanie O'Brien,
Manager, National NAGPRA Program.

[FR Doc. 2020-24684 Filed 11-5-20; 8:45 am]

BILLING CODE 4312-52-P